DEPARTMENT OF EDUCATION

Request for Nominations: National Advisory Council on Indian Education (NACIE)

AGENCY: U.S. Department of Education

ACTION: Request for nominations for appointment to serve on NACIE.

SUMMARY: The United States Department of Education (Department) is seeking nominations for individuals to fill vacant seats and serve on NACIE.

DATES: Nominations must be received no later than August 31, 2025.

ADDRESSES: You may submit nomination(s), including attachments, via email to: Julian.Guerrero@ed.gov (please specify in the email subject line “NACIE Nomination”).

FOR FURTHER INFORMATION CONTACT: Julian Guerrero, Jr., Designated Federal Official, Office of Indian Education, U.S. Department of Education, 400 Maryland Avenue SW, Office 4B-116, Washington, DC 20202. Telephone: (202) 213-3416. Email: Julian.Guerrero@ed.gov.

SUPPLEMENTARY INFORMATION:

Nomination(s) received should contain the following:

(1) A cover letter from the nominating entity self-identifying as an Indian Tribe or an Indian Organization;

(2) Reason(s) for nominating the individual;

(3) A copy of the nominee's current resume or curriculum vitae;

(4) Contact information for the nominee (e.g., name, title, mailing address, phone number, and email address); and

(5) A statement affirming that the nominee has agreed to be nominated and is willing to serve on NACIE if appointed by the President of the United States of America.

Statutory Authority and Function: NACIE is a statutorily authorized and presidentially appointed 15-member federal advisory committee created via the Indian Education Act of 1972 (IEA) and reauthorized via the Elementary and Secondary Education Act (ESEA) as amended. The duties of NACIE (20 U.S.C. 7471) are to:

(A) Advise both the Secretary of Education and the Secretary of the Interior concerning the funding and administration (including development of regulations, administrative policies, and practices) of any program that includes Indian children or adults as participants or beneficiaries.

(B) Make recommendations to the Secretary of Education for filling the position of Office of Indian Education (OIE) Director whenever a vacancy occurs.

(C) Submit an annual report to Congress every year no later than June 30; regarding the activities of NACIE and include any recommendations for the improvement of Federal education programs that include Indian children or adults as participants or beneficiaries; and funding recommendations.

In addition, Section 6141(a) of the ESEA requires that nominations are furnished, from time to time, by Indian Tribes and Indian Organizations; and must represent different geographic areas of the United States. Section 2 of the NACIE Improvement Act (NIA) requires that one member must be a president of a Tribal College or University as defined in 20 U.S.C. 1059c(b). NACIE members will serve as Special Government Employees (SGEs), as defined in 18 U.S.C. 202(a). As SGEs, members are selected for their individual experience, integrity, impartiality, and good judgment. The President or his delegate shall appoint a Chairperson and a Vice Chairperson from among the members. NACIE members may receive reimbursement for travel expenses incident to attending NACIE meetings, including per diem, as authorized by 5 U.S.C. 5703 for persons intermittently employed in the government service. NACIE is governed by provisions of the Federal Advisory Committee Act (FACA) (Pub. L. 92-463; as amended, 5 U.S.C. app.) which sets forth standards for the formation and use of advisory committees.

Electronic Access to this Document: The official version of this document is published in the Federal Register. Free internet access to the official edition of the Federal Register and the Code of Federal Regulations is available via the Federal Digital System at: www.govinfo.gov/. At this site, you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: Section 6141 of the ESEA, as amended (20 U.S.C. 7471).

Hayley B. Sanon,
Principal Deputy Assistant Secretary and Acting Assistant Secretary, Office of Elementary and Secondary Education.

[FR Doc. 2025-13490 Filed 7-17-25; 8:45 am]

BILLING CODE 4000-01-P